DEPARTMENT OF TRANSPORTATION

Surface Transportation Board

[STB Finance Docket No. 34477]

The Burlington Northern and Santa Fe Railway Company—Temporary Trackage Rights Exemption—Union Pacific Railroad Company

Union Pacific Railroad Company (UP) has agreed to grant temporary overhead trackage rights to The Burlington Northern and Santa Fe Railway Company (BNSF) over UP's (1) Lake Charles Subdivision line between UP milepost 680.2 at Iowa Junction, LA, and UP milepost 660.6 at Kinder, LA, (2) Beaumont Subdivision line between UP milepost 544.5 at Kinder, LA, and UP milepost 621.0 at Livonia, LA, and (3) Livonia Subdivision line between UP milepost 114.8 at Livonia, LA, and UP milepost 14.4 at Live Oak, LA, a total distance of approximately 196.5 miles.

The transaction is scheduled to be consummated on March 1, 2004, and the trackage rights are scheduled to expire on June 24, 2004. The purpose of the temporary trackage rights is to allow BNSF to bridge its train service while its main lines are out of service due to certain programmed track, roadbed, and structural maintenance.

As a condition to this exemption, any employees affected by the temporary trackage rights will be protected by the conditions imposed in Norfolk and Western Ry. Co.—Trackage Rights—BN, 354 I.C.C. 605 (1978), as modified by Mendocino Coast Ry., Inc.—Lease and Operate, 360 I.C.C. 653 (1980), aff'd sub nom. Railway Labor Executives' Ass'n v. United States, 675 F.2d 1248 (D.C. Cir. 1982).

This notice is filed under 49 CFR 1180.2(d)(8). If the notice contains false or misleading information, the exemption is void ab initio. Petitions to revoke the exemption under 49 U.S.C. 10502(d) may be filed at any time. The filing of a petition to revoke will not stay the transaction.

An original and 10 copies of all pleadings, referring to STB Finance Docket No. 34477, must be filed with the Surface Transportation Board, 1925 K Street, NW., Washington, DC 20423-0001. In addition, a copy of each pleading must be served on Sarah W. Bailiff, 2500 Lou Menk Drive, P. O. Box 961039, Fort Worth, TX 76161-0039.

Board decisions and notices are available on our Web site at http://www.stb.dot.gov.

Decided: February 27, 2004.
By the Board, David M. Konschnik, Director, Office of Proceedings.
Vernon A. Williams,
Secretary.

[FR Doc. 04-4850 Filed 3-4-04; 8:45 am]

BILLING CODE 4915-01-P